Proclamation 10941 of May 16, 2025

Armed Forces Day, 2025

By the President of the United States of America

A Proclamation

On Armed Forces Day, we pause to honor the men and women of America's Army, Navy, Air Force, Marine Corps, Coast Guard, and Space Force. Every day, throughout our homeland and in far-flung regions of the world, our fighting forces valiantly safeguard our liberty, defend our border, and support global stability through humanitarian missions and disaster relief operations. In America's legacy of awe-inspiring heroes, they are without equal.

As Commander in Chief, my highest responsibility is to ensure our all-volunteer military, 2.1 million-strong, is the world's most lethal fighting force. I have taken bold steps to prioritize military excellence and readiness across every branch of service, ensuring that all active duty, National Guard, and Reserve members who wear our Nation's uniform are prepared to deploy, fight, and win against any adversary in any domain. America's military will soon be stronger and more powerful than ever before. Since November, enlistment numbers for every branch of the Armed Forces have surged—recruitment is now the highest it has been in 30 years.

On Armed Forces Day, we celebrate those for whom patriotism is not a passive, lofty ideal, but a way of life that is measured by the unyielding commitment to serve this Nation with valor, vigilance, integrity, and devotion to duty. It is worthy not only of a day of recognition but also a lifetime of respect from a grateful Nation. The First Lady joins me in saluting our service members—on land, at sea, and in air and space—along with their devoted families, who share in this legacy of service and sacrifice.

NOW, THEREFORE, I, DONALD J. TRUMP, President of the United States of America and Commander in Chief of the Armed Forces of the United States, continuing the tradition of my predecessors in office, do hereby proclaim the third Saturday of each May as Armed Forces Day. I invite the Governors of the States and Territories and other areas subject to the jurisdiction of the United States to provide for the observance of Armed Forces Day within their jurisdiction in an appropriate manner designed to increase public understanding and appreciation of our Armed Forces. I call upon all Americans to display the flag of the United States at their homes and businesses on Armed Forces Day, and I urge citizens to learn more about military service by attending and participating in the local observances of the day.

Proclamation 10762 of May 17, 2024, is hereby superseded.

IN WITNESS WHEREOF, I have hereunto set my hand this sixteenth day of May, in the year of our Lord two thousand twenty-five, and of the Independence of the United States of America the two hundred and forty-ninth.

[FR Doc. 2025-09341

Filed 5-21-25; 8:45 am]

Billing code 3395-F4-P